DEPARTMENT OF TRANSPORTATION

National Highway Traffic Safety Administration

Reports, Forms, and Record Keeping Requirements; Agency Information Collection Activity Under OMB Review

AGENCY: National Highway Traffic Safety Administration (NHTSA), Department of Transportation.

ACTION: Correction notice.

SUMMARY: This document corrects the estimated annual cost published on March 23, 2006 (71 FR 14778) for the Paperwork Reduction Act of 1995 (44 U.S.C. 3501 et seq., OMB Control Number 2127-0547).

DATES: Comments must be submitted on or before June 19, 2006.

FOR FURTHER INFORMATION CONTACT: Carlita Ballard at the National Highway Traffic Safety Administration, Office of International Vehicle, Fuel Economy and Consumer Standards, (NVS-131), 400 Seventh Street, SW., Room 5320, Washington, DC 20590. Ms. Ballard's telephone number is (202) 366-5222.

SUPPLEMENTARY INFORMATION: The National Highway Traffic Safety Administration is correcting an error in the Information Collection notice published in the Federal Register on March 23, 2006 (71 FR 14778). Specifically, NHTSA is correcting the estimated total annual costs. It was reported as $2,325,960. However, the correct figure is $0. The $2,325,960 figure reported represents costs associated with burden hours and, per the instructions for OMB Form 83-I, should be excluded from the total annual cost burden calculation. Accordingly, the total annual cost burden is $0.

Since the correction made by this document is only to inform the public of previous agency actions, and do not impose any additional obligations on any part, NHTSA finds for good cause that the revisions made by this notice should be effective as soon as this notice is published in the Federal Register.

Issued in Washington, DC, on: May 15, 2006.
Stephen R. Kratzke,
Associate Administrator for Rulemaking.

[FR Doc. E6-7659 Filed 5-18-06; 8:45 am]

BILLING CODE 4910-59-P